FEDERAL MARITIME COMMISSION

[DOCKET NO. 24-24]

S.P.F. Logistics, Inc., Complainant v. Hapag Lloyd AG, Respondent; Notice of Filing of Complaint and Assignment

Served: July 19, 2024.

Notice is given that a complaint has been filed with the Federal Maritime Commission (the “Commission”) by S.P.F. Logistics, Inc. (the “Complainant”) against Hapag Lloyd AG (the “Respondent”). Complainant states that the Commission has subject matter jurisdiction over the complaint pursuant to the Shipping Act of 1984, as amended, 46 U.S.C. 40101 et seq. and personal jurisdiction over the Respondent as an ocean common carrier as defined in 46 U.S.C. 40102.

Complainant is a California corporation that operates as a licensed motor carrier.

Complainant identifies Respondent as a corporation organized under the laws of Germany with its headquarters located in Hamburg, Germany, that does business in the United States through Hapag Lloyd (America) LLC, a Delaware limited liability company with its principal place of business in Piscataway, New Jersey.

Complainant alleges that Respondent violated 46 U.S.C. 41102(c), as interpreted by 46 CFR 545.5. Complainant alleges this violation arose from the assessment of detention charges during periods when empty containers could not be returned due to reasons such as dual transaction requirements and appointment unavailability.

An answer to the complaint must be filed with the Commission within 25 days after the date of service.

The full text of the complaint can be found in the Commission's electronic Reading Room at https://www2.fmc.gov/readingroom/proceeding/24-24/. This proceeding has been assigned to the Office of Administrative Law Judges. The initial decision of the presiding judge shall be issued by July 21, 2025, and the final decision of the Commission shall be issued by February 4, 2026.

David Eng,
Secretary.

[FR Doc. 2024-16260 Filed 7-23-24; 8:45 am]

BILLING CODE 6730-02-P